DEPARTMENT OF AGRICULTURE

Forest Service

Northern Research Station, Timber & Watershed Laboratory, RWU NRS-01, West Virginia, Fernow Experimental Forest 2016 to 2020

AGENCY: Forest Service, USDA.

ACTION: Notice; correction.

SUMMARY: The Forest Service published a document in the Federal Register of December 12, 2014, concerning a notice of intent to prepare an environmental impact statement. The document contained incorrect dates for the estimated publication of draft and final environmental impact statements. We anticipate completing the draft environmental impact statement in April 2015 and the final environmental impact statement is expected in June 2015.

FOR FURTHER INFORMATION CONTACT: Tom Schuler, Project Leader at USDA Forest Service, 304-478-2000. Individuals who use telecommunication devices for the deaf (TDD) may call the Federal Information Relay Service (FIRS) at 1-800-877-8339 twenty-four hours a day, every day of the year, including holidays.

Correction

In the Federal Register of December 12, 2014, in FR Vol. 79, No. 239, on page 73880 in the third column correct the “Dates” caption to read:

DATES: Comments concerning the scope of the analysis must be received by January 26, 2015. The draft environmental impact statement is expected April 2015 and the final environmental statement is expected June 2015.

Dated: December 16, 2014.
Thomas Schuler,
Project Leader, NRS-01.

[FR Doc. 2014-30067 Filed 12-22-14; 8:45 am]

BILLING CODE 3411-15-P